DEPARTMENT OF DEFENSE

GENERAL SERVICES ADMINISTRATION

NATIONAL AERONAUTICS AND SPACE ADMINISTRATION

48 CFR Chapter 1

[Docket No. FAR-2024-0051, Sequence No. 4]

Federal Acquisition Regulation; Federal Acquisition Circular 2024-06; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2024-06. A companion document, the Small Entity Compliance Guide (SECG), follows this FAC.

DATES: For effective dates see the separate documents, which follow.

FOR FURTHER INFORMATION CONTACT: The analyst whose name appears in the table below in relation to the FAR case. For information pertaining to status or publication schedules, contact the Regulatory Secretariat Division at 202-501-4755 or GSARegSec@gsa.gov.

Rules Listed in FAC 2024-06
Item | Subject | FAR case | Analyst
I | Reverse Auction Guidance | 2015-038 | Jackson.
II | Protests of Orders Set Aside for Small Business | 2021-009 | Bowman.
III | Limitation of Authority Regarding Extraordinary Contractual Actions | 2023-007 | Jones.
IV | Technical Amendments |  |

ADDRESSES: The FAC, including the SECG, is available at https://www.regulations.gov.

SUPPLEMENTARY INFORMATION: Summaries for each FAR rule follow. For the actual revisions and/or amendments made by these FAR rules, refer to the specific item numbers and subjects set forth in the documents following these item summaries. FAC 2024-06 amends the FAR as follows:

Item I—Reverse Auction Guidance (FAR Case 2015-038)

This final rule amends the FAR to provide guidance on the use of reverse auctions. When participating in a reverse auction, offerors see competing offerors' price(s), without disclosure of the competing offerors' identities, and have the opportunity to submit lower priced offers until the close of the auction. Agencies may use reverse auctions to obtain competitive prices for an acquisition. The rule is intended to address concerns identified in two Government Accountability Office reports and an Office of Federal Procurement Policy memorandum. The final rule provides guidance for contracting officers on the appropriate use of reverse auctions and ensures reverse auction service providers are given the Government's access, use, disclosure, and disposition requirements for Government data and Government-related data. The final rule is not expected to have a significant economic impact on a substantial number of small entities because the rule will not impact an entity's participation in a reverse auction.

Item II—Protests of Orders Set Aside for Small Business (FAR Case 2021-009)

This final rule amends the FAR to update and clarify requirements associated with size and socioeconomic status protests in connection with multiple-award contract set-asides and reserves and orders placed under multiple-award contracts, except for orders and blanket purchase agreements placed under a Federal Supply Schedule contract in accordance with FAR 8.405.

Item III—Limitation of Authority Regarding Extraordinary Contractual Actions (FAR Case 2023-007)

This final rule amends the FAR to increase the Congressional committee notification threshold at FAR 50.102-3(b)(4) to $150 million. This change will reflect the new threshold in 50 U.S.C. 1431.

Item IV—Technical Amendments

Administrative changes are made at FAR 2.101, 11.602, 17.104, 19.202-1, 19.702, 23.301, 25.403, 25.701, 52.207-6, 52.213-4, 52.223-11, 52.223-21, 52.244-5, 52.246-26, and 53.236-2.

William F. Clark,
Director, Office of Government-wide Acquisition Policy, Office of Acquisition Policy, Office of Government-wide Policy.

Federal Acquisition Circular (FAC) 2024-06 is issued under the authority of the Secretary of Defense, the Administrator of General Services, and the Administrator of National Aeronautics and Space Administration.

Unless otherwise specified, all Federal Acquisition Regulation (FAR) and other directive material contained in FAC 2024-06 is effective July 30, 2024 except for Items I through IV, which are effective August 29, 2024.

John M. Tenaglia,

Principal Director, Defense Pricing and Contracting, Department of Defense.

Jeffrey A. Koses, Senior Procurement Executive/Deputy CAO, Office of Acquisition Policy, U.S. General Services Administration.

Karla Smith Jackson,

Assistant Administrator for Procurement, Senior Procurement Executive/Deputy CAO, National Aeronautics and Space Administration.

[FR Doc. 2024-16286 Filed 7-29-24; 8:45 am]

BILLING CODE 6820-EP-P